DEPARTMENT OF THE INTERIOR

Office of the Secretary

Land Buy-Back Program for Tribal Nations

AGENCY: Office of the Secretary, Interior.

ACTION: Notice of Tribal Consultations.

SUMMARY: The Cobell Class Action Settlement Agreement established a Trust Land Consolidation Fund to be used for acquiring fractional interests in trust and restricted fee lands. Based on tribal consultation in the spring and summer of 2011, the Department issued a draft plan dated January 2012. The Department has developed this Initial Implementation Plan for the Land Buy-Back Program for Tribal Nations incorporating input received through subsequent consultations and public input. This notice announces consultation with Indian tribes on the Initial Implementation Plan and the Land Buy-Back Program for Tribal Nations (Buy-Back Program).

DATES: Written input/suggestions are due Monday, March 4, 2013. Please see the SUPPLEMENTARY INFORMATION section of this notice for dates of tribal consultation sessions.

ADDRESSES: See the SUPPLMENTARY INFORMATION section of this notice for the location of the tribal consultation sessions. The Initial Implementation Plan for the Buy-Back Program is available at: www.doi.gov/cobell. Submit comments by email to: buybackprogram@ios.doi.gov or by mail to U.S. Department of the Interior, MS-7323-MIB, 1849 C Street NW., Washington, DC 20240.

FOR FURTHER INFORMATION CONTACT: Anthony Walters, Office of the Land Buy-Back Program for Tribal Nations; Anthony.Walters@bia.gov; (202) 513-0897.

SUPPLEMENTARY INFORMATION: The Cobell Settlement Agreement (as confirmed by the Claims Resolution Act of 2010 (Pub. L. 11-291) and approved with finality after appeals to the U.S. Supreme Court were exhausted (Settlement)), provides, in part, for a $1.9 billion Trust Land Consolidation Fund (Fund). The Settlement charges the Department of the Interior (Department) with the responsibility to expend the Fund within a 10-year period to acquire, at fair market value, fractional interests in trust or restricted fee land that individuals are willing to sell to the Department. The Secretary has established the Buy-Back Program to implement this aspect of the Settlement.

There are approximately 150 reservations with 2.9 million purchasable fractional interests that are owned by more than 218,000 unique individuals. The overall goal of the Buy-Back Program is to reduce the number of those fractional interests through voluntary land purchases, which will create consolidated trust land bases for beneficial use by tribal communities.

The Department has prepared an Initial Implementation Plan based on preliminary planning and tribal consultation. The Plan has the following purposes:

• Recognize and address comments received on the Draft Plan dated January 31, 2012, and during the public comment period through March 15, 2012;

• Outline initial goals and priorities;

• Summarize key parameters and operational concepts for the Buy-Back Program;

• Outline ways in which tribes might participate in the Buy-Back Program through cooperative agreements;

• Describe the primary land consolidation processes—outreach, land research, valuation, and acquisition; and

• Describe next steps for additional tribal consultation, public comment, and continued program planning and implementation, including pilot efforts that will allow for improvement of the Buy-Back Program.

The Plan also provides additional data concerning fractionation to provide context for planning efforts and to respond to tribes' requests for more complete information. This Initial Implementation Plan is not a final plan. The Department expects to continually update its plans to reflect tribal feedback, lessons learned, and best practices.

Tribal consultation sessions on the Plan and Buy-Back Program will be held at the following dates and cities. Information about the specific venue or location of the consultation can be found at www.doi.gov/cobell once they are confirmed.

Date | Time | Venue
January 31, 2013 | 9 a.m.-4 p.m. | Minneapolis, Minnesota.
February 6, 2013 | 9 a.m.-4 p.m. | Rapid City, South Dakota.
February 14, 2013 | 9 a.m.-4 p.m. | Seattle, Washington.

Dated: December 14, 2012.
David Hayes,
Deputy Secretary.

[FR Doc. 2012-30622 Filed 12-19-12; 8:45 am]

BILLING CODE 4310-10-P